FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

JMJ Logistics, Inc., 201 Sevilla Avenue, Coral Gables, FL 33134, Officer: Ernesto Del Riego, President (Qualifying Individual).

Advance Marine Shipping, 6505 Rusk, Houston, TX 77023, Gibson A. Oluyitan, Sole Proprietor.

SBC International Inc., 398 S. Lemon Creek Dr., Ste. #R, Walnut, CA 91789. Officer: Min Y. Zhu, CEO (Qualifying Individual).

Conquests International Freight LLC, 4452 NW 74 Avenue, Miami, FL 33166, Officer: Brian N. Contipelli, Manager, (Qualifying Individual).

Prana International Inc, 4842 SW 1144 Ct., Miami, FL 33175, Officer: Jorge Lacayo, President (Qualifying Individual).

Port Line Services LLC, 250 North Avenue East, Elizabeth, NJ 07201, Officer: Jose B. Jiminez, Member (Qualifying Individual).

Cuban Parcel Services, Corp., 11027 N.W. 122nd Street, Medley, FL 33178, Officers: Rolgues Rodriguez, Treasurer (Qualifying Individual). Ernesto Villa, President.

KSB Shipping & Logistics LLC, 2301 Trafalgar Square, Hillsborough, NJ 08844, Officer: Satish K. Sharma, Member (Qualifying Individual).

Non-Vessel-Operating Common Carrier and Ocean Freight Forwarder Transportation Intermediary Applicants

Optim International Freight Services, Inc., 5733 Arbor Vitae Street, Ste. 101, Los Angeles, CA 90045, Officer: Dennis J. Liebregt, President (Qualifying Individual).

England Global Logistics USA, Inc. dba England Logistics, 11222 La Cienega Boulevard, Ste. 588, Inglewood, CA 90304, Officers: Jack H. Chen, Director (Qualifying Individual), Josh A. England, President.

Ocean Freight Forwarder—Ocean Transportation Intermediary Applications

ASL Logistics USA, LLC, Skyline Tower, 10900 NE 4th Street, Ste. 2300, Bellevue, WA 98004, Officers: Jerry V. Garcia, Managing Partner (Qualifying Individual), Alicia S. Gilson, President.

Midnite Air Corp dba MNX, 300 N Oak Street, Inglewood, CA 90302, Officers: Sean T. Gallagher, Senior Cargo Officer (Qualifying Individual). Keith D. Storey, Chairman.

Allyn International Services, Inc., 13391 McGregor Boulevard, Fort Myers, FL 33919, Officer: Michael Smyers, Vice President, (Qualifying Individual).

Reindeer Forwarding, LLC, 5100 Charles Court, Zionsville, IN 46077, Officers: Bradley Willy, General Manager (Qualifying Individual), Timothy Donnar, CEO.

Dated: November 6, 2009.
Karen V. Gregory,
Secretary.

[FR Doc. E9-27191 Filed 11-10-09; 8:45 am]

BILLING CODE 6730-01-P